ENVIRONMENTAL PROTECTION AGENCY

[FRL-7126-9]

Notice of Withdrawal of Proposed Prospective Purchaser Agreement in Relation to the Metcoa Radiation Superfund Site, Pursuant to the Comprehensive Environmental Response, Compensation and Liability Act of 1980, as Amended by the Superfund Amendments and Reauthorization Act of 1986

AGENCY: Environmental Protection Agency.

ACTION: Notice.

SUMMARY: Notice is hereby given of withdrawal by the Prospective Purchaser from a proposed Prospective Purchaser Agreement and Covenant Not To Sue, executed between the United States, on behalf of the U.S. Environmental Protection Agency (“EPA”), and Medure Development LLC (“Prospective Purchaser”) in accordance with the Comprehensive Environmental Response, Compensation, and Liability Act of 1980, 42 U.S.C. 9601-9675, as amended (“CERCLA”). EPA and the U.S. Department of Justice consent to the withdrawal. Therefore, the Agreement will not take effect. The withdrawn agreement concerned the Metcoa Radiation Superfund Site (“Site”) located on Route 551 and Metallurgical Way, approximately one-half mile north of the center of the village of Pulaski, and Route 208 in Pulaski, Lawrence County, Pennsylvania.

FOR FURTHER INFORMATION CONTACT: Humane L. Zia (3RC41), Assistant Regional Counsel, U.S. Environmental Protection Agency, Region III, 1650 Arch Street, Philadelphia, PA 19103; phone: (215) 814-3454.

SUPPLEMENTARY INFORMATION: The Environmental Protection Agency previously published in the Federal Register a Notice of Prospective Purchaser Agreement and Request for Public Comment, 65 FR 77876 (December 13, 2000), and a Notice of Reopening of Public Comment Period, 66 FR 8234 (January 30, 2001), concerning this Prospective Purchaser Agreement.

Dated: January 2, 2002.
Thomas C. Voltaggio,
Acting Regional Administrator, Region III.

[FR Doc. 02-411 Filed 1-7-02; 8:45 am]

BILLING CODE 6560-50-P